DEPARTMENT OF TRANSPORTATION

National Highway Traffic Safety Administration

[Docket No. NHTSA-2020-0100; Notice 1]

Nissan North America, Inc., Receipt of Petition for Decision of Inconsequential Noncompliance

AGENCY: National Highway Traffic Safety Administration (NHTSA), Department of Transportation (DOT).

ACTION: Receipt of petition.

SUMMARY: Nissan North America, Inc. (Nissan) has determined that certain model year (MY) 2020 Nissan Sentra motor vehicles do not fully comply with Federal Motor Vehicle Safety Standard (FMVSS) No. 108, Lamps, Reflective Devices, and Associated Equipment. Nissan filed a noncompliance report dated August 26, 2020. Nissan subsequently petitioned NHTSA on September 18, 2020, for a decision that the subject noncompliance is inconsequential as it relates to motor vehicle safety. This notice announces receipt of Nissan's petition.

DATES: Send comments on or before April 23, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview

Nissan has determined that certain MY 2020 Nissan Sentra motor vehicles do not fully comply with the requirements of paragraph S10.18.9.1.2 of FMVSS No. 108, Lamps, Reflective Devices, and Associate Equipment (49 CFR 571.108). Nissan filed a noncompliance report dated August 26, 2020, pursuant to 49 CFR part 573, Defect and Noncompliance Responsibility and Reports. Nissan subsequently petitioned NHTSA on September 18, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Nissan's petition is published under 49 U.S.C. 30118 and 30120 and does not represent any Agency decision or other exercise of judgment concerning the merits of the petition.

II. Motor Vehicles Involved

Approximately 5,520 MY 2020 Nissan Sentra motor vehicles, manufactured between November 26, 2019, and March 24, 2020, are potentially involved.

III. Noncompliance

Nissan explains that the noncompliance is that the right-hand LED headlamp aim in the subject vehicle may be misaligned resulting in a vertical gradient value below 0.13 as required by paragraph S10.18.9.1.2 of FMVSS No. 108.

IV. Rule Requirements

Paragraph S10.18.9.1.2 of FMVSS No. 108 includes the requirements relevant to this petition. Vertical gradient. The gradient of the cutoff measured at either 2.5° L or 2.0° R must be not less than 0.13 based on the procedure of S10.18.9.1.5.

V. Summary of Nissan's Petition

The following views and arguments presented in this section, “V. Summary of Nissan's Petition,” are the views and arguments provided by Nissan. They have not been evaluated by the Agency and do not reflect the views of the Agency. Nissan describes the subject noncompliance and contends that the noncompliance is inconsequential as it relates to motor vehicle safety.

In support of its petition, Nissan provided NHTSA with the following:

1. Nissan states that the supplier (Ichikoh) did not apply the correct aiming logic when setting the head lamp aim parameters in the subject vehicles and, as a result, the right-hand LED headlamp aim may be misaligned resulting in a vertical gradient value below 0.13. Nissan asserts that a lower G-Value will lead to a headlamp cut line that is slightly less sharp. Ichikoh inspected 3,506 lamps and found 572 lamps with a G-Value below 0.13. However, when the cut-off value is brought down to two decimals instead of three (per the express requirement in FMVSS No. 108), only 286 lamps (about 8%) fall below the 0.13 minimum threshold. Of the 286 lamps, 248 (about 87%) are at a gradient value of 0.12.

2. Ichikoh has also confirmed that, even when the G-Value is below 0.13, all points of the Light Distribution achieve the required specifications of FMVSS No. 108 for both the low and high beam performance.

3. Nissan states that it has not received any reports from the field of customer complaints, warranty claims, crashes, injuries, or fatalities related to this issue.

4. Nissan contends that the purpose of the gradient requirement is to assist in headlamp re-aiming. Nissan says that the vehicles potentially affected by this issue were aimed properly at the factory using a different aiming method. Therefore, the only potential concern would relate to re-aiming performed after the vehicle has been in use. Aiming of the headlamps by a service technician in the field is an event that is expected to occur infrequently. To confirm this, Nissan searched its repair order database for repair orders on the previous generation Sentra that involved re-aiming of the headlamps. Out of 1,389,330 vehicles, only 161 repair orders were found that involved headlamp aiming. This rate of repair would be 0.011% of vehicles. If the same rate of repair is applied to the expected 420 vehicles in the subject population, we would expect only 0.05 vehicles of the subject population to require a re-aiming in the field.

5. Nissan asserts that the difference in gradient values between 0.12 and 0.13 does not materially affect the ability of a service technician to properly aim the lamp in the rare case that this would need to be done in the field.

6. Even if the lamps had to be re-aimed at some point, according to Nissan, it is unlikely the driver or other motorists would notice any glare or observable difference in operation between a fully compliant lamp and the subject lamps, based on the conditions described above.

7. In the subject parts, all points of the light distribution achieve the required specifications of FMVSS No. 108 for both the low and high beam performance.

Nissan concludes by again contending that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Nissan no longer controlled at the time it determined that the noncompliance existed. However, any decision on this petition does not relieve vehicle distributors and dealers of the prohibitions on the sale, offer for sale, or introduction or delivery for introduction into interstate commerce of the noncompliant vehicles under their control after Nissan notified them that the subject noncompliance existed.

Authority: 49 U.S.C. 30118, 30120: delegations of authority at 49 CFR 1.95 and 501.8.

Otto G. Matheke III,
Director, Office of Vehicle Safety Compliance.

[FR Doc. 2021-06025 Filed 3-23-21; 8:45 am]

BILLING CODE 4910-59-P